Title 3—

The President

Proclamation 8155 of June 5, 2007

Flag Day and National Flag Week, 2007

By the President of the United States of America

A Proclamation

The American Flag represents freedom and has been an enduring symbol of our Nation's ideals since the earliest days of our Nation. Wherever it flies, we are reminded of America's unity and in the great cause of liberty and justice for all.

Two hundred and thirty years ago, the Second Continental Congress officially made the Stars and Stripes the symbol of America. The Founders declared that the 13 stars gracing the original flag represented “a new constellation,” just as America embodied new hope and new light for mankind. Today, our flag continues to convey the bold spirit of a proud and determined Nation.

Americans have long flown our flag as a sign of patriotism and gratitude for the blessings of liberty. We also pledge allegiance to the flag as an expression of loyalty to our country and to the belief in the American creed of freedom and justice. By displaying and showing respect for the flag, we honor the ideals upon which our democracy rests and show appreciation for the freedoms we enjoy today. Flying the flag can also be an expression of thanks for the men and women who have served and sacrificed in defense of our freedoms—from the early patriots of the Continental Army to the courageous Americans in uniform who are defending those freedoms around the world today.

During Flag Day and National Flag Week, we honor Old Glory and reflect on the foundations of our freedom. As citizens of this great Nation, we are proud of our heritage, grateful for our liberty, and confident in our future.

To commemorate the adoption of our flag, the Congress, by joint resolution approved August 3, 1949, as amended (63 Stat. 492), designated June 14 of each year as “Flag Day” and requested that the President issue an annual proclamation calling for its observance and for the display of the flag of the United States on all Federal Government buildings. The Congress also requested, by joint resolution approved June 9, 1966, as amended (80 Stat. 194), that the President issue annually a proclamation designating the week in which June 14 occurs as “National Flag Week” and calling upon all citizens of the United States to display the flag during that week.

NOW, THEREFORE, I, GEORGE W. BUSH, President of the United States of America, do hereby proclaim June 14, 2007, as Flag Day and the week beginning June 10, 2007, as National Flag Week. I direct the appropriate officials to display the flag on all Federal Government buildings during that week, and I urge all Americans to observe Flag Day and National Flag Week by flying the Stars and Stripes from their homes and other suitable places. I also call upon the people of the United States to observe with pride and all due ceremony those days from Flag Day through Independence Day, also set aside by the Congress (89 Stat. 211), as a time to honor America, to celebrate our heritage in public gatherings and activities, and to publicly recite the Pledge of Allegiance to the Flag of the United States of America.

IN WITNESS WHEREOF, I have hereunto set my hand this fifth day of June, in the year of our Lord two thousand seven, and of the Independence of the United States of America the two hundred and thirty-first.

[FR Doc. 07-2892

Filed 6-7-07; 10:12 am]

Billing code 3195-01-P